DEPARTMENT OF AGRICULTURE

National Institute of Food and Agriculture

Application Package and Reporting Requirements for the Veterinary Medicine Loan Repayment Program (VMLRP)

AGENCY: National Institute of Food and Agriculture, USDA.

ACTION: Notice and request for comments.

SUMMARY: In accordance with the Office of Management and Budget (OMB) regulations (5 CFR part 1320), which implements the Paperwork Reduction Act of 1995 (44 U.S.C. Chapter 35), this notice announces the National Institute of Food and Agriculture's (NIFA) intention to request an extension for the currently approved information collection for the Veterinary Medicine Loan Repayment Program (VMLRP). This notice initiates a 60-day comment period. The NIFA may not conduct or sponsor, and the respondent is not required to respond to, a collection of information unless the collection of information displays a valid OMB control number.

DATES: Comments regarding this information collection must be received on or before June 16, 2014 to be assured of having their full effect.

ADDRESSES: You may submit comments by any of the following methods:

Federal eRulemaking Portal: http://www.regulations.gov. Follow the instructions for submitting comments.

Email: vmlrp@nifa.usda.gov. Include the text “VMLRP Application Forms” in the subject line of the message.

Fax: (202) 401-7752.

Mail: paper, disk or CD-ROM submissions should be submitted to National Institute of Food and Agriculture; U.S. Department of Agriculture; STOP 2299; 1400 Independence Avenue SW., Washington, DC 20250-2299.

Hand Delivery/Courier: National Institute of Food and Agriculture; U.S. Department of Agriculture; Room 2308, Waterfront Centre; 800 9th Street SW., Washington, DC 20024.

Instructions: All comments received will be posted without change to http://www.regulations.gov, including any personal information provided.

FOR FURTHER INFORMATION CONTACT: Gary Sherman; National Program Leader, Veterinary Science; National Institute of Food and Agriculture; U.S. Department of Agriculture; STOP 2220; 1400 Independence Avenue SW., Washington, DC 20250-2220; Voice: 202-401-4952; Fax: 202-401-6156; Email: gsherman@nifa.usda.gov.

SUPPLEMENTARY INFORMATION:

Title: Application Package and Reporting Requirements for the Veterinary Medicine Loan Repayment Program (VMLRP)

OMB Number: 0524-0047.

Expiration Date of Current Approval: October 31, 2014.

Type of Information Collection Request: Intent to extend currently approved information collection for three years.

Abstract: These application forms and reporting requirements are for the Veterinary Medicine Loan Repayment Program (VMLRP) as authorized under section 1415A of the National Agricultural Research, Extension, and Teaching Policy Act of 1977 (NARETPA). This information collection applies to Subpart B of 7 CFR part 3431.

Need and Use of the Information: The NIFA will carry out NVMSA by entering into educational loan repayment agreements with veterinarians who agree to provide veterinary services in veterinarian shortage situations for a determined period of time. The information collection allows the NIFA to request from VMLRP applicants information related to eligibility, qualifications, career interests, and recommendations necessary to evaluate their applications for repayment of educational indebtedness in return for agreeing to provide veterinary services in veterinarian shortage situations. This information collection is also used to determine an applicant's eligibility for participation in the program. NIFA publishes a Request for Applications (RFA) to request VMLRP loan repayment applications from individual veterinarians on an annual basis. These forms are made available at the NIFA VMLRP Web site as a PDF-fillable document (to be printed and then returned by fax or mail), and includes questions requiring check boxes or text with a word limitation to minimize the burden for applicants and reviewers. Submitted application forms are reviewed and evaluated by a peer panel according to the criteria identified in the published RFA.

Method of Collection: Collection allows program applicants to make all submissions by fax, courier, or regular mail. The information collection is required of all applicants who request to enter into an agreement with the Secretary of Agriculture for VMLRP participation.

Frequency of Response: Annual application

Affected Public: Applicants, recommenders, and financial institutions.

Type of Respondents: Veterinarians and organizational officials.

The estimated annual reporting burden is as follows:

Type of respondents | Number of respondents | Estimated number of responses per respondent | Average burden hours per response | Annual burden hours requested
Applicants:
Applicant Information | 100 | 1 | 1 | 100
Personal Statement | 100 | 1 | 6 | 600
List of Recommenders | 100 | 1 | .5 | 50
Loan Information | 100 | 2 | .5 | 100
Contract | 100 | 1 | .25 | 25
Certification for Applications | 100 | 1 | .25 | 25
Intent of Employment | 100 | 1 | 1 | 100
Applicants subtotal | 100 |  |  | 1,000
Recommenders:
Recommendation | 300 | 1 | 1 | 300
Recommenders subtotal | 300 | 1 | 1 | 300
Financial Institutions:
Loan Information | 200 | 1 | .25 | 50
Financial Institutions subtotal | 200 | 1 | .25 | 50
Grand Total | 600 |  |  | 1,350

Request for Comments: Comments submitted in response to this notice will be summarized and/or included in the request for OMB approval of the information collection. All comments will become a matter of public record. Comments are invited on: (a) Whether the information collection is necessary for the proper performance of the functions of the VMLRP, including whether the information has practical utility; (b) the accuracy of the public burden estimate (the estimated amount of time needed for individual respondents to provide the requested information), including the validity of the methodology and assumptions used; (c) ways to enhance the quality, utility, and clarity of the information to be collected; (d) ways to minimize the public burden through the use of appropriate automated, electronic, mechanical, or other technological collection techniques or other forms of information technology; and (e) estimates of capital or start-up costs and costs of operation, maintenance, and purchase of services to provide information.

Obtaining a Copy of the Information Collection: A copy of the information collection is available at the VMLRP Web site: www.nifa.usda.gov/vmlrp.

VMLRP Application Forms and Reporting Requirements

Pursuant to the requirements enacted in the NVMSA of 2004 (as revised), and the implementing regulation for this Act, the National Institute of Food and Agriculture hereby proposes to continue its use of:

I. Application Forms

The following forms are to be completed and submitted by the applicant by the established deadline.

(a) Applicant Information Form: Collects relevant identifying, contact, and employment information from the applicant. Authorizes the disclosure of information that confirms the applicant is not under a service obligation or has a Federal judgment lien against his/her property.

(b) Personal Statement: Includes a discussion of applicant knowledge, skills, abilities, and experience relative to the shortage situation applied for.

(c) List of Recommenders: Identifies colleagues that can speak to the applicant's capability to fulfill program obligations. Three recommendations are required for each application.

(d) Loan Information Form: Authorizes the disclosure of information to the lenders and their authorized collection agents to confirm that the applicant's loans are current in their repayment status.

(e) Contract: A legal agreement that binds the applicant and the Secretary of USDA and/or NIFA Director to the terms and conditions for participation in the VMLRP, including obligations of both parties.

(f) Certifications for Application: Validates the contractual agreement, accuracy of information provided by the applicant, and request for confidential recommendations.

(g) Intent of Employment: Section 1 provides information on the shortage situation the applicant intends to fill upon receipt of a VMLRP award. Section 2 confirms the applicant's ability to secure an offer of employment or establish and/or maintain a practice in a veterinary shortage situation within the time period specified in the VMLRP service agreement offer.

II. Recommendation Form

To be completed and submitted by colleagues identified by the applicant by an established deadline. Includes ratings and short answers to assess applicant's capabilities to provide veterinary services in the specific shortage situation the applicant is applying for. Three separate recommendations are required.

III. Reporting Requirements

Program participants are required to verify that the terms of the VMLRP contract are being met on a quarterly basis. Subsequent quarterly loan repayments will not be disbursed until this verification is provided. This report must include:

(a) A listing of states, counties, and/or insular areas served

(b) A listing of veterinary services and activities provided in the shortage situation

(c) Percentage time (on a 40-hour week basis) providing service to veterinary shortage situation identified in the agreement. Program participants are responsible for notifying NIFA of any changes in the service being provided in the specified shortage situation during the three-year period. It is strongly recommended that program participants advise NIFA of these changes at least two months in advance to allow sufficient processing time. Failure to provide the updated information may result in the termination of the VMLRP contract and the program participant may be subject to penalties as outlined in Section C, Paragraph 3 of the contract.

Done in Washington, DC, this 9th day of April, 2014.
Catherine E. Woteki,
Under Secretary, Research, Economics, and Education.

[FR Doc. 2014-08575 Filed 4-15-14; 8:45 am]

BILLING CODE 3410-22-P